DEPARTMENT OF ENERGY

Federal Energy Regulatory Commission

[Docket No. MT00-10-000]

Williston Basin Interstate Pipeline Company; Notice of Tariff Filing

July 7, 2000.

Take notice that on June 30, 2000, Williston Basin Interstate Pipeline Company (Williston Basin), tendered for filing as part of its FERC Gas Tariff, Second Revised Volume No. 1, the following revised tariff sheets, with a proposed effective date of June 30, 2000.

Twelfth Revised Sheet No. 187

Original No. 187A

Eighth Revised Sheet No. 188

Williston Basin states that the proposed revision to its Tariff is being made to reflect that to the extent that the term “Marketing Affiliate,” within the context of FERC Order Nos. 566, et seq., is deemed to include WBI Production, Inc. (WBI Production), as it pertains to and so long as WBI Production sells natural gas acquired from Frontier Gas Storage Company, then the executive officers of Transporter may be considered shared policy making personnel.

Williston Basin states that the proposed Tariff revisions also reflect the fact that Transporter and Montana-Dakota Utilities Co., a local distribution company division of MDU Resources Group, Inc. (MDU) and/or MDU share a record storage area at the Bismarck Service Center, 909 Airport Road, Bismarck, ND 58504.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17730 Filed 7-12-00; 8:45 am]

BILLING CODE 6717-01-M